DEPARTMENT OF TRANSPORTATION

Federal Aviation Administration

14 CFR Part 39

[Docket No. FAA-2014-0453; Directorate Identifier 2013-NM-205-AD; Amendment 39-18049; AD 2014-25-07]

RIN 2120-AA64

Airworthiness Directives; Airbus Airplanes

AGENCY: Federal Aviation Administration (FAA), Department of Transportation (DOT).

ACTION: Final rule.

SUMMARY: We are adopting a new airworthiness directive (AD) for certain Airbus Model A320-211, -212, -214, -231, -232, and -233 airplanes. This AD was prompted by a report of cracking at the splice plate of the frame (FR) 47 butt joint crossing area found during full-scale fatigue testing. This AD requires repetitive inspections for cracking of both sides of the splice plate of that frame butt joint crossing area, and corrective action if necessary. This AD also provides for an optional modification, which terminates the repetitive inspections. We are issuing this AD to detect and correct fatigue cracking of the splice plate of the FR 47 butt joint crossing area, which could result in reduced structural integrity of the airplane.

DATES: This AD becomes effective January 20, 2015.

The Director of the Federal Register approved the incorporation by reference of certain publications listed in this AD as of January 20, 2015.

ADDRESSES: You may examine the AD docket on the Internet at http://www.regulations.gov/#!docketDetail;D=FAA-2014-0453 or in person at the Docket Management Facility, U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Sanjay Ralhan, Aerospace Engineer, International Branch, ANM-116, Transport Airplane Directorate, FAA, 1601 Lind Avenue SW., Renton, WA 98057-3356; phone: 425-227-1405; fax: 425-227-1149.

SUPPLEMENTARY INFORMATION:

Discussion

We issued a notice of proposed rulemaking (NPRM) to amend 14 CFR part 39 by adding an AD that would apply to certain Airbus Model A320-211, -212, -214, -231, -232, and -233 airplanes. The NPRM published in the Federal Register on July 18, 2014 (79 FR 41940).

The European Aviation Safety Agency (EASA), which is the Technical Agent for the Member States of the European Community, has issued EASA Airworthiness Directive 2013-0203, dated September 6, 2013 (referred to after this as the Mandatory Continuing Airworthiness Information, or “the MCAI”), to correct an unsafe condition for certain Airbus Model A320-211, -212, -214, -231, -232, and -233 airplanes. The MCAI states:

During the full scale fatigue test on A320-200, cracks were reported at the splice plate of the frame (FR) 47 butt joint crossing area, both sides.

This condition, if not detected and corrected, could affect the structural integrity of the aeroplane.

Prompted by these findings, Airbus developed Mod 31012 and introduced this on the production line to modify the current 2 fastener row butt joint into a 3 fastener row butt joint to prevent further damage. For in-service aeroplanes, a corresponding modification was developed and published as Airbus Service Bulletin (SB) A320-53-1271.

For the reason described above, this [EASA] AD requires repetitive special detailed inspections (SDI) of the splice plate of the FR47 butt joint crossing area and, depending on findings, accomplishment of applicable corrective action(s).

You may examine the MCAI in the AD docket on the Internet at http://www.regulations.gov/#!documentDetail;D=FAA-2014-0453-0002.

Comments

We gave the public the opportunity to participate in developing this AD. The following presents the comment received on the NPRM (79 FR 41940, July 18, 2014) and the FAA's response.

Request to Extend the Compliance Time

Allegiant Air, LLC asked that we extend the threshold for the initial inspection for the airplanes identified in paragraph (g)(3) of the proposed AD (79 FR 41940, July 18, 2014) to 44,000 flight cycles or 88,000 flight hours, whichever occurs first. Allegiant Air asserted that an equivalent level of safety would be maintained by extending the compliance time as proposed. Allegiant Air noted that paragraph (g)(2) of the proposed AD specified a threshold of 45,000 total flight cycles or 91,000 total flight hours, whichever occurs first.

We do not agree with the commenter's request to extend the compliance time. We infer that Allegiant Air, LLC expected 44,000 total flight cycles or 88,000 total flight hours to be the threshold for crack growth propagation based on full-scale fatigue testing; however, Allegiant Air, LLC did not provide data to support this inference. Based on our risk assessment, taking into consideration the worldwide fleet utilization, as well as fatigue and crack growth analysis, we have determined that the compliance time specified in paragraph (g)(3) of this AD will ensure an acceptable level of safety and allow the inspections to be done in a timely manner. However, under the provisions of paragraph (j) of this AD, we may approve requests for adjustments to the compliance time if data are submitted to substantiate that such an adjustment would provide an acceptable level of safety. We have not changed this final rule in this regard.

Conclusion

We reviewed the relevant data, considered the comment received, and determined that air safety and the public interest require adopting this AD as proposed, except for minor editorial changes. We have determined that these minor changes:

• Are consistent with the intent that was proposed in the NPRM (79 FR 41940, July 18, 2014) for correcting the unsafe condition; and

• Do not add any additional burden upon the public than was already proposed in the NPRM (79 FR 41940, July 18, 2014).

Costs of Compliance

We estimate that this AD affects 229 airplanes of U.S. registry.

We also estimate that it will take about 98 work-hours per product to comply with the basic requirements of this AD. The average labor rate is $85 per work-hour. Based on these figures, we estimate the cost of this AD on U.S. operators to be $1,907,570, or $8,330 per product.

We have received no definitive data that would enable us to provide cost estimates for the on-condition actions specified in this AD.

In addition, we estimate that any necessary follow-on actions take about 100 work-hours and require parts costing $1,150, for a cost of $9,650 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0453; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-25-07 Airbus: Amendment 39-18049. Docket No. FAA-2014-0453; Directorate Identifier 2013-NM-205-AD.

(a) Effective Date

This AD becomes effective January 20, 2015.

(b) Affected ADs

None.

(c) Applicability

This AD applies to Airbus Model A320-211, -212, -214, -231, -232, and -233 airplanes, certificated in any category, all manufacturer serial numbers, except those on which Airbus Modification 31012 has been embodied in production.

(d) Subject

Air Transport Association (ATA) of America Code 53, Fuselage.

(e) Reason

This AD was prompted by a report of cracking at the splice plate of the frame (FR) 47 butt joint crossing area found during full-scale fatigue testing. We are issuing this AD to detect and correct fatigue cracking of the splice plate of the FR47 butt joint crossing area, which could result in reduced structural integrity of the airplane.

(f) Compliance

Comply with this AD within the compliance times specified, unless already done.

(g) Repetitive Inspections

At the applicable time specified in paragraph (g)(1), (g)(2), or (g)(3) of this AD: Do a special detailed inspection (rototest) for cracking of both sides of the splice plate of the FR47 butt joint crossing area, in accordance with the Accomplishment Instructions of Airbus Service Bulletin A320-53-1260, dated December 19, 2012. Repeat the inspection thereafter at intervals not to exceed 14,800 flight cycles or 29,600 flight hours, whichever occurs first.

(1) For airplanes that, as of the effective date of this AD, have accumulated 44,000 or more total flight cycles or 88,000 or more total flight hours since first flight of the airplane: Do the inspection within 1,500 flight cycles or 3,000 flight hours after the effective date of this AD, whichever occurs first.

(2) For airplanes that, as of the effective date of this AD, have accumulated 27,700 or more total flight cycles or 55,400 or more total flight hours, but fewer than 44,000 total flight cycles or 88,000 total flight hours since first flight of the airplane: Do the inspection within 3,000 flight cycles or 6,000 flight hours after the effective date of this AD, without exceeding 45,500 total flight cycles or 91,000 total flight hours since first flight of the airplane, whichever occurs first.

(3) For airplanes that, as of the effective date of this AD, have accumulated fewer than 27,700 total flight cycles and less than 55,400 total flight hours since first flight of the airplane: Do the inspection before the accumulation of 30,700 total flight cycles or 61,400 total flight hours since first flight of the airplane, whichever occurs first.

(h) Corrective Action

If any crack is found during any inspection required by this AD: Before further flight, repair using a method approved by the Manager, International Branch, ANM-116, Transport Airplane Directorate, FAA; or the European Aviation Safety Agency (EASA); or Airbus's EASA Design Organization Approval (DOA). If approved by the DOA, the approval must include the DOA-authorized signature.

(i) Optional Modification

Accomplishing the modification of the splice plate of the FR47 butt joint in accordance with the Accomplishment Instructions of Airbus Service Bulletin A320-53-1271, dated December 18, 2012, constitutes terminating action for the repetitive inspections required by paragraph (g) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; phone: 425-227-1405; fax: 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

Refer to Mandatory Continuing Airworthiness Information (MCAI) EASA Airworthiness Directive 2013-0203, dated September 6, 2013, for related information. This MCAI may be found in the AD docket on the Internet at http://www.regulations.gov/#!documentDetail;D=FAA-2014-0453-0002.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1260, dated December 19, 2012.

(ii) Airbus Service Bulletin A320-53-1271, dated December 18, 2012.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 3, 2014.
Michael Kaszycki,
Acting Manager, Transport Airplane Directorate, Aircraft Certification Service.

[FR Doc. 2014-29174 Filed 12-15-14; 8:45 am]

BILLING CODE 4910-13-P